DEPARTMENT OF TRANSPORTATION

Federal Aviation Administration

14 CFR Part 39

[Docket No. FAA-2017-0988; Product Identifier 2017-NE-37-AD; Amendment 39-19097; AD 2017-23-03]

RIN 2120-AA64

Airworthiness Directives; Engine Alliance Turbofan Engines

AGENCY: Federal Aviation Administration (FAA), DOT.

ACTION: Final rule; request for comments.

SUMMARY: We are superseding Emergency Airworthiness Directive (AD) 2017-21-51 for all Engine Alliance (EA) GP7200 series turbofan engines. AD 2017-21-51 was sent previously to all known U.S. owners and operators of GP7200 series turbofan engines. AD 2017-21-51 required visual inspections of all fan hubs for damage. This AD retains the same required actions as AD 2017-21-51 and clarifies the compliance requirements. This AD was prompted by the failure of a GP7200 fan hub. We are issuing this AD to address the unsafe condition on these products.

DATES: This AD is effective November 24, 2017.

The Director of the Federal Register approved the incorporation by reference of a certain publication listed in this AD as of November 24, 2017.

We must receive any comments on this AD by December 26, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this final rule, contact Engine Alliance, 400 Main St., East Hartford, CT 06108, M/S 169-10; phone: 800-565-0140; email: help24@pw.utc.com; Web site: www.engineallianceportal.com. You may view this service information at the FAA, Engine and Propeller Standards Branch, 1200 District Avenue, Burlington, MA. For information on the availability of this material at the FAA, call 781-238-7125. It is also available on the Internet at http://www.regulations.gov by searching for and locating Docket No. FAA-2017-0988.

Examining the AD Docket

You may examine the AD docket on the Internet at http://www.regulations.gov by searching for and locating Docket No. FAA-2017-0988; or in person at the Docket Management Facility between 9 a.m. and 5 p.m., Monday through Friday, except Federal holidays. The AD docket contains this final rule, the regulatory evaluation, any comments received, and other information. The street address for the Docket Office (phone: 800-647-5527) is in the ADDRESSES section. Comments will be available in the AD docket shortly after receipt.

FOR FURTHER INFORMATION CONTACT: David Bethka, Aerospace Engineer, ECO Branch, FAA, 1200 District Avenue, Burlington, MA 01803; phone: 781-238-7129; fax: 781-238-7199; email: david.bethka@faa.gov.

SUPPLEMENTARY INFORMATION:

Discussion

On October 12, 2017, we issued Emergency AD 2017-21-51, (“AD 2017-21-51”), which was immediately effective to owners and operators of EA GP7200 series turbofan engines. AD 2017-21-51 required visual inspections of the GP7200 series engine fan hubs for damage. AD 2017-21-51 resulted from an uncontained engine failure that occurred on an EA GP7270 turbofan engine. We issued AD 2017-21-51 to prevent an uncontained release of the fan hub, damage to the engine, and damage to the airplane.

Actions Since AD 2017-21-51 Was Issued

Since we issued AD 2017-21-51, we determined a need to clarify the compliance requirements. We are issuing this AD to correct the unsafe condition on these products.

Related Service Information Under 1 CFR Part 51

We reviewed EA Alert Service Bulletin (ASB) EAGP7-A72-383, Revision No. 1, dated October 12, 2017. The ASB describes procedures for visual inspections of all fan hubs for damage. This service information is reasonably available because the interested parties have access to it through their normal course of business or by the means identified in the ADDRESSES section.

FAA's Determination

We are issuing this AD because we evaluated all the relevant information and determined the unsafe condition described previously is likely to exist or develop in other products of the same type design.

AD Requirements

This AD requires visual inspections of all fan hubs for damage.

Interim Action

We consider this AD interim action. An investigation to determine the cause of the failure is on-going and we may consider additional rulemaking if final action is identified.

FAA's Justification and Determination of the Effective Date

An unsafe condition exists that requires the immediate adoption of this AD without providing an opportunity for public comments prior to adoption. The FAA has found that the risk to the flying public justifies waiving notice and comment prior to adoption of this rule because no U.S. operators are affected. Therefore, we find good cause that notice and opportunity for prior public comment are impracticable. In addition, for the reason stated above, we find that good cause exists for making this amendment effective in less than 30 days.

Comments Invited

This AD is a final rule that involves requirements affecting flight safety, and we did not provide you with notice and an opportunity to provide your comments before it becomes effective. However, we invite you to send any written data, views, or arguments about this final rule. Send your comments to an address listed under the ADDRESSES section. Include the docket number FAA-2017-0988 and product identifier 2017-NE-37-AD at the beginning of your comments. We specifically invite comments on the overall regulatory, economic, environmental, and energy aspects of this final rule. We will consider all comments received by the closing date and may amend this final rule because of those comments.

We will post all comments we receive, without change, to http://www.regulations.gov, including any personal information you provide. We will also post a report summarizing each substantive verbal contact we receive about this final rule.

Costs of Compliance

We estimate that this AD affects no engines installed on airplanes of U.S. registry.

We estimate the following costs to comply with this AD:

Estimated Costs
Action | Labor cost | Parts cost | Cost per product | Cost on U.S. operators
Fan hub inspection | 2 work-hours × $85 per hour = $170 | $0 | $170 | $0

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-23-03 Engine Alliance: Amendment 39-19097; Docket No. FAA-2017-0988; Product Identifier 2017-NE-37-AD.

(a) Effective Date

This AD is effective November 24, 2017.

(b) Affected ADs

This AD supersedes Emergency AD 2017-21-51, Product Identifier 2017-NE-37-AD, issued on October 12, 2017.

(c) Applicability

This AD applies to all Engine Alliance (EA) GP7270, GP7272, and GP7277 model turbofan engines.

(d) Subject

Joint Aircraft System Component (JASC) Code 7230, Turbine Engine Compressor Section.

(e) Unsafe Condition

This AD was prompted by failure of a fan hub. We are issuing this AD to prevent failure of the fan hub. The unsafe condition, if not corrected, could result in uncontained release of the fan hub, damage to the engine, and damage to the airplane.

(f) Compliance

Comply with this AD within the compliance times specified, unless already done.

(g) Required Actions

(1) Perform a visual inspection of the fan hub in accordance with the Accomplishment Instructions, paragraph 1.B., 1.C., and 1.D., of EA Alert Service Bulletin (ASB) EAGP-A72-383, Revision No. 1, dated October 12, 2017, at the times specified in paragraphs (g)(1)(i) through (iii) of this AD.

(i) For fan hubs with 3,500 cycles since new (CSN) or more on the effective date of this AD, inspect within 2 weeks after the effective date of this AD.

(ii) For fan hubs with 2,000 CSN or more, but less than 3,500 CSN, on the effective date of this AD, inspect within 5 weeks after the effective date of this AD.

(iii) For fan hubs with less than 2,000 CSN on the effective date of this AD, inspect within 8 weeks after the effective date of this AD.

(2) If defects or damage to the fan hub are found outside the serviceable limits specified in Table 1 of EA ASB EAGP7-A72-383, Revision No. 1, dated October 12, 2017, remove the hub from service and replace with a part that passed the inspection specified in paragraph (g)(1) of this AD, prior to further flight.

(h) Credit for Previous Actions

You may take credit for the inspection required by paragraph (g)(1) of this AD if you performed the inspection before the effective date of this AD, using EA ASB EAGP7-A72-383, dated October 7, 2017.

(i) Alternative Methods of Compliance (AMOCs)

(1) The Manager, ECO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j) of this AD. Information may be emailed to: ANE-AD-AMOC@faa.gov.

(2) Before using any approved AMOC, notify your appropriate principal inspector, or lacking a principal inspector, the manager of the local flight standards district office/certificate holding district office.

(j) Related Information

For more information about this AD, contact David Bethka, Aerospace Engineer, ECO Branch, FAA, 1200 District Avenue, Burlington, MA 01803; phone: 781-238-7129; fax: 781-238-7199; email: david.bethka@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Engine Alliance Alert Service Bulletin EAGP7-A72-383, Revision No. 1, dated October 12, 2017.

(ii) Reserved.

(3) For Engine Alliance service information identified in this AD, contact Engine Alliance, 400 Main St., East Hartford, CT 06108, M/S 169-10, phone: 800-565-0140; email: help24@pw.utc.com; Web site: www.engineallianceportal.com.

(4) You may view this service information at FAA, Engine and Propeller Standards Branch, 1200 District Avenue, Burlington, MA. For information on the availability of this material at the FAA, call 781-238-7125.

(5) You may view this service information that is incorporated by reference at the National Archives and Records Administration (NARA). For information on the availability of this material at NARA, call 202-741-6030, or go to: http://www.archives.gov/federal-register/cfr/ibr-locations.html.

Issued in Burlington, Massachusetts, on November 6, 2017.
Robert J. Ganley,
Manager, Engine and Propeller Standards Branch, Aircraft Certification Service.

[FR Doc. 2017-24462 Filed 11-8-17; 8:45 am]

BILLING CODE 4910-13-P